DEPARTMENT OF TRANSPORTATION

Federal Aviation Administration

[(AC) 23-17]

Advisory Circular: Systems and Equipment Guide for Certification of Part 23 Airplanes

AGENCY: Federal Aviation Administration (FAA), DOT.

ACTION: Notice of Issuance of Advisory Circular.

SUMMARY: This notice announces the issuance of Advisory Circular (AC) 23-17, Systems and Equipment Guide for Certification of Part 23 Airplanes. Advisory Circular 23-17 provides information and guidance concerning acceptable means, but not the only means, of showing compliance with Part 23 applicable to Subpart D from § 23.671 and Subpart F.

DATES: On April 25, 2000, the Small Airplane Directorate issued Advisory Circular 23-17.

How To Obtain Copies: AC 23-17 is available on the internet at http://www.faa.gov/avr/air/airhome.htm. A copy of AC 23-17 may be also ordered from the Superintendent of Documents, Post Office Box 371954, Pittsburgh, PA 15250-7954. Identify the publication as AC 23-17, Systems and Equipment Guide for Certification of Part 23 Airplanes, Stock Number 050-007-01287-0. The cost of AC 23-17 is $21.00. Send a check or money order with your request, made payable to the Superintendent of Documents. Orders for mailing to foreign countries should include an additional 25 percent of the total price to cover handling. No C.O.D. orders are accepted.

Issued in Kansas City, Missouri, on June 20, 2000.
Larry Werth,
Acting Manager, Small Airplane Directorate, Aircraft Certification Service.

[FR Doc. 00-16332 Filed 6-27-00; 8:45 am]

BILLING CODE 4910-13-P